DEPARTMENT OF ENERGY

Federal Energy Regulatory Commission

[Docket No. EL06-67-000]

Chesapeake Transmission, LLC, Complainant v. PJM Interconnection, LLC, Respondent; Notice of Complaint

April 26, 2006.

Take notice that on April 25, 2006 Chesapeake Transmission, LLC (Chesapeake), Complainant, filed a complaint against PJM Interconnection, LLC (PJM) pursuant to section 206 and 306 of the Federal Power Act 16 U.S.C. 824(e) and 825(e), and sections 206 and 212 of the Commission's Rules of Practice and Procedures, 18 CFR 385.206 and 385.212, requesting that the Commission direct PJM to allow Chesapeake's merchant transmission project P45B to move forward expeditiously. The complainant also requests fast track processing of its complaint.

Chesapeake certifies that a copy of the complaint has been served on PJM and FirstEnergy Solutions Corporation, a potentially interested party.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on May 12, 2006.

Magalie R. Salas,
Secretary.

[FR Doc. E6-6573 Filed 5-1-06; 8:45 am]

BILLING CODE 6717-01-P